DEPARTMENT OF AGRICULTURE

Submission for OMB Review; Comment Request

August 24, 2017

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by September 29, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Animals and Poultry, Animal and Poultry Products, Certain Animal Embryos, Semen, and Zoological Animals.

OMB Control Number: 0579-0040.

Summary of Collection: The Animal Health Protection Act (AHPA) of 2002 (7 U.S.C. 8301), is the primary Federal law governing the protection of animal health. The law gives the Secretary of Agriculture broad authority to detect, control, or eradicate pests or diseases of livestock or poultry. The agency charged with carrying out this disease prevention mission is the Animal and Plant Health Inspection Service (APHIS). Disease prevention is the most effective method for maintain a healthy animal population and enhancing APHIS' ability to compete globally in animal and animal product trade. APHIS' Veterinary Services (VS) unit is responsible for, among other things, preventing the introduction of foreign or certain other communicable animal diseases into the United States; and for rapidly identifying, containing, eradicating, or otherwise mitigating such diseases when feasible. In connection with this mission, APHIS collects information from individuals, businesses, and farms who are involved with importation of animals or poultry, animal or poultry products, or animal germplasm (semen, ooycysts, and embryos, including eggs for hatching) into the United States as well as from foreign countries and States to support these imports.

Need and Use of the Information: APHIS will collect information from foreign animal health authorities as well as U.S. importers; foreign exporters; veterinarians and animal health technicians in other countries; State animal health authorities; shippers; owners and operators of foreign processing plants and farms; USDA-approved zoos, laboratories, and feedlots; private quarantine facilities; and other entities involved (directly or indirectly) in the importation of animal and poultry, animals and poultry products, zoological animals, and animal germplasm.

Some of the information collection activities include: Agreements; permits; application and space reservation requests; inspections; registers; declarations of importation; requests for hearings; daily logs; additional requirements; application for permits; export health certificates; letters; written notices; daily record of horse activities; written requests; opportunities to present views; reporting; applications for approval of facilities; certifications; arrival notices; on-hold shipment notifications; reports; affidavits; animal identification; written plans; checklists; specimen submissions; emergency action notifications; refusal of entry and order to dispose of fish; premises information; recordkeeping; and application of seals. APHIS needs this information to help ensure that these imports do not introduce foreign animal diseases into the United States.

Description of Respondents: Business or other for-profit; Farms; Individuals and Households; Federal Governments; and State, Local, and Tribal Governments.

Number of Respondents: 8,412.

Frequency of Responses: Recordkeeping; Third Party Disclosure; Reporting: On occasion.

Total Burden Hours: 313,851.

Charlene Parker,
Departmental Information Collection Clearance Officer.

[FR Doc. 2017-18326 Filed 8-29-17; 8:45 am]

BILLING CODE 3410-34-P